NUCLEAR REGULATORY COMMISSION

Sunshine Act Meeting; Notice

AGENCY HOLDING THE MEETING: Nuclear Regulatory Commission.

DATE: Weeks of April 23, 30, May 7, 14, 21, 28, 2001.

PLACE: Commissioners' Conference Room, 11555 Rockville Pike, Rockville, Maryland.

STATUS: Public and Closed.

MATTERS TO BE CONSIDERED:

Week of April 23, 2001

Tuesday, April 24, 2001

10:25 a.m. Affirmation Session (Public Meeting) (If needed)

10:30 a.m. Discussion of Intragovernmental Issues (Closed-Ex. 9)

Week of April 30, 2001—Tentative

There are no meetings scheduled for the Week of April 30, 2001.

Week of May 7, 2001—Tentative

Thursday, May 10, 2001

10:25 a.m. Affirmation Session (Public Meeting) (If needed)

10:30 a.m. Briefing on Office of Nuclear Regulatory Research (RES) Programs and Performance (Public Meeting) (Contact: James Johnson, 301-415-6802)

Friday, May 11, 2001

10:30 a.m. Meeting with Advisory Committee on Reactor Safeguards (ACRS) (Public Meeting) (Contact: John Larkins, 301-415-7360)

Week of May 14, 2001—Tentative

There are no meetings scheduled for the Week of May 14, 2001.

Week of May 21, 2001—Tentative

There are no meetings scheduled for the Week of May 21, 2001.

Week of May 28, 2001—Tentative

Wednesday, May 30, 2001

10:25 a.m. Affirmation Session (Public Meeting) (If needed)

* The schedule for Commission meetings is subject to change on short notice. To verify the status of meetings call (recording)—301-415-1292. Contact person for more information: David Louis Gamberoni (301) 415-1651.

* * * * *

The NRC Commission Meeting Schedule can be found on the Internet at: http://www.nrc.gov/SECY/smj/schedule.htm

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 19, 2001.
David Louis Gamberoni,
Technical Coordinator, Office of the Secretary.

[FR Doc. 01-10236 Filed 4-20-01; 11:50 am]

BILLING CODE 7590-01-M